ENVIRONMENTAL PROTECTION AGENCY

[EPA-HQ-OW-2023-0287; FRL-11530-01-OW]

Proposed Information Collection Request; Comment Request; Textile Mills Industry Data Collection

AGENCY: Environmental Protection Agency (EPA).

ACTION: Notice.

SUMMARY: The Environmental Protection Agency (EPA) is planning to submit an information collection request (ICR), “U.S. Environmental Protection Agency Textile Mills Industry Data Collection” (EPA ICR No. 2798.01, OMB Control No. 2040-NEW) to the Office of Management and Budget (OMB) for review and approval in accordance with the Paperwork Reduction Act (PRA). Before doing so, EPA is soliciting public comments on specific aspects of the proposed information collection as described below. This is a request for approval of a new collection. This notice allows for 60 days for public comments.

DATES: Comments must be submitted on or before January 29, 2024.

ADDRESSES: Submit your comments, referencing Docket ID No. EPA-HQ-OW-2023-0287, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

FOR FURTHER INFORMATION CONTACT: Dr. Paul Shriner, Engineering and Analysis Division, Office of Science and Technology, (4303T), Environmental Protection Agency, 1200 Pennsylvania Ave. NW, Washington, DC 20460; telephone number: 202-566-1076; email address: Shriner.Paul@epa.gov.

SUPPLEMENTARY INFORMATION: This is a request for approval of a new collection. An agency may not conduct or sponsor, and a person is not required to respond to, a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA (44 U.S.C. 3501 et seq), EPA is soliciting comments and information to enable it to: (i) evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under the Clean Water Act (CWA), the EPA develops effluent limitations guidelines (ELGs) to limit pollutants discharged from industrial point source categories. The EPA initially promulgated the Textiles Mills ELGs in 1974 (39 FR 24736, July 5, 1974) and amended the regulations in 1977 (42 FR 26979, May 26, 1977) and 1982 (47 FR 38810, September 2, 1982). Textiles mills receive and prepare fibers, transforming these materials into yarn, thread or webbing. Other mills convert yarns and webbing into fabric or related products and finish these materials. Many textile mills produce a final consumer product such as thread, yarn, fabric, hosiery, sheets, towels, and carpet. The current regulation covers wastewater discharges from textile mills which perform one or more of the following operations and discharge process wastewater directly to surface waters or indirectly to surface waters through publicly owned treatment works (POTWs): wool scouring, wool finishing, yarn and unfinished fabric manufacturing, woven fabric finishing, knit fabric finishing, carpet finishing, and nonwoven textile products of wool, cotton, synthetics, or blends of such fabrics.

In the Preliminary Study of the Textiles Industry (July 1996), the EPA presented an industry profile of establishments engaged in the manufacture of textile products. Approximately 35 to 50 percent were engaged in wet processing (dyeing, finishing, printing and coating), and at least 90 percent of these facilities discharge their process wastewater to POTWs. When compared with 1980 data, the industry in 1993 averaged 22 percent less water per pound of fiber processed as a result of water conservation programs implemented by textile facilities.

In the Preliminary Effluent Guidelines Program Plan 15 (86 FR 51155, September 2021), based on information and data the EPA collected for the Preliminary Multi-Industry Per- and Polyfluoroalkyl Substances (PFAS) Study, the EPA determined that PFAS have been and continue to be used by textile and carpet manufacturers, a subset of facilities regulated under the Textile Mills ELGs. The EPA's review of PFAS use and discharge by the textile mills point source category is largely based on publicly available information and literature. Based on a small number of sample results, EPA determined that PFAS, including legacy long-chain PFAS, are present in wastewater discharges from some textile mills to POTWs. Most textile mills are not monitoring for PFAS, nor are they required to do so. Therefore, the EPA expects that textile mills may be discharging PFAS to POTWs or surface waters even when the textile mill no longer uses PFAS in their process.

As announced in the Effluent Guidelines Program Plan 15 (88 FR 6258, January 31, 2023), the EPA is continuing to evaluate the available data on types and concentrations of PFAS in wastewater discharged from textile mills. As indicated above there is limited publicly available data on textile mills, including potential use and discharge of PFAS, fluoropolymers, and fluorotelomers. The EPA has also reviewed information on textile mills from Environmental Compliance History Online (ECHO), the Integrated Compliance Information System (ICIS), as well as data collected from several state environmental agencies. However, very few of these data sources include PFAS monitoring data. None of these data sources define a complete population of textile mills in the United States, nor do they provide detailed information on specific facility operations including any recent phase out of PFAS usage.

Therefore, a questionnaire for the textile mills industry is necessary for the EPA to determine if the current regulations remain appropriate and, if warranted, to develop and propose new regulations. If new regulations are deemed to be warranted, the questionnaire is essential for the EPA to complete the detailed technical analysis necessary for the rulemaking. The EPA has identified and compiled mailing addresses for approximately 2,200 textile manufacturing facilities in the United States. A subsequent wastewater sampling program will require a subset of approximately 20 textile manufacturing facilities that completed the questionnaire to also collect wastewater samples and submit them to an EPA-contracted laboratory. Wastewater sampling data are critical for characterizing the wastewater generated and discharged by textile manufacturing facilities, as well as evaluating the effectiveness of pollution control practices and technologies to reduce or eliminate PFAS in discharges. The EPA will use these characterization data to estimate current pollutant mass loads and achievable load reductions for available technologies for the industry and to determine if the ELGs warrant revision. Additional objectives of the questionnaire and sampling will be to confirm the current population of textile mills, confirm which mills still use PFAS in their processes, as well as gather facility-specific information and data relevant to generation and discharge of PFAS-containing wastewater by the industry.

Confidential Business Information (CBI) may be collected. In accordance with 40 CFR part 2, subpart B, section 2.203, the survey informs respondents of their right to claim information as confidential. Each survey provides instructions for claiming confidentiality and informs respondents of the terms and rules governing the protection of CBI under the Clean Water Act and 40 CFR 2.203(b). Survey respondents are requested to mark any claimed confidential responses as CBI. EPA and its contractors will follow EAD's existing procedures to protect data labeled as CBI.

Form Numbers: None.

Respondents/affected entities: Up to 2,200 textile mills in the U.S. will receive the questionnaire and no more than 20 facilities will be asked to conduct specific wastewater sampling.

Respondent's obligation to respond: Mandatory (Clean Water Act Section 308) (citing authority).

Estimated number of respondents: Up to 2,200 (total).

Frequency of response: One-time data collection.

Total estimated respondent burden: 30,008 hours. Burden is defined at 5 CFR 1320.03(b).

Total estimated respondent cost: $1,339,982 one-time cost.

Changes in Estimates: This is a new data collection request and is a one-time temporary increase to the agency's burden.

Deborah Nagle,
Director, Office of Science and Technology, Office of Water.

[FR Doc. 2023-26139 Filed 11-27-23; 8:45 am]

BILLING CODE 6560-50-P